DEPARTMENT OF THE INTERIOR

National Park Service

[N6841; NPS-WASO-NAGPRA-NPS0041748; PPWOCRADN0-PCU00RP14.R50000]

Notice of Inventory Completion: Maxwell Museum of Anthropology, University of New Mexico, Alburquerque, NM

AGENCY: National Park Service, Interior.

ACTION: Notice.

SUMMARY: In accordance with the Native American Graves Protection and Repatriation Act (NAGPRA), the Maxwell Museum of Anthropology, University of New Mexico (UNM) has completed an inventory of human remains and associated funerary objects and has determined that there is a cultural affiliation between the human remains and associated funerary objects and Indian Tribes or Native Hawaiian organizations in this notice.

DATES: Repatriation of the human remains and associated funerary objects in this notice may occur on or after February 12, 2026.

ADDRESSES: Send written requests for repatriation of the human remains and associated funerary objects in this notice to Ash Boydston-Schmidt, Maxwell Museum of Anthropology, MSC01-1050, 1 University of New Mexico, Albuquerque, NM 87131, email ashboydston@unm.edu.

SUPPLEMENTARY INFORMATION: This notice is published as part of the National Park Service's administrative responsibilities under NAGPRA. The determinations in this notice are the sole responsibility of the Maxwell Museum of Anthropology, University of New Mexico, and additional information on the determinations in this notice, including the results of consultation, can be found in its inventory or related records. The National Park Service is not responsible for the determinations in this notice.

Abstract of Information Available

Human remains representing at least 399 individuals have been identified. The 539 associated funerary objects include non-human bone, modified non-human bone, ceramics, sherds, botanicals, organics, modified antler, matting, cordage, tools, mineral-stone, beads, shells, projectile points, flaked stone, clay, adobe, sediment-soil, pollen, and charcoal. UNM first conducted excavations at the site known as Pottery Mound in 1954, when the land was owned by the Huning family. The family donated the site to UNM in 1978 and additional excavations took place from 1979 through the 1980's. The Pueblo of Isleta eventually purchased the rest of the Huning Ranch, making the site a nine-acre island in the middle of Pueblo property. In 2012, following consultations between the Maxwell Museum and the Pueblo, the UNM Board of Regents voted to deed the site of Pottery Mound to the Pueblo of Isleta. In addition to the excavations that UNM conducted, there have been several donations of looted ancestral human remains and associated funerary objects to The Maxwell Museum of Anthropology at UNM that were taken from Pottery Mound while the site was privately owned.

Cultural Affiliation

Based on the information available and the results of consultation, cultural affiliation is reasonably identified by geographical location, archaeological information, biological information, oral histories, and the acquisition history of the human remains and associated funerary objects described in this notice.

Determinations

The Maxwell Museum of Anthropology, University of New Mexico has determined that:

• The human remains described in this notice represent the physical remains of at least 399 individuals of Native American ancestry.

• The 539 objects described in this notice are reasonably believed to have been placed intentionally with or near individual human remains at the time of death or later as part of the death rite or ceremony.

• There is a connection between the human remains and associated funerary objects described in this notice and the Pueblo of Acoma, New Mexico; Pueblo of Cochiti, New Mexico; Pueblo of Isleta, New Mexico; Pueblo of Laguna, New Mexico; Pueblo of San Felipe, New Mexico; Pueblo of Sandia, New Mexico; Pueblo of Santa Ana, New Mexico; Pueblo of Zia, New Mexico; and the Santo Domingo Pueblo.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 12, 2026. If competing requests for repatriation are received, the Maxwell Museum of Anthropology, University of New Mexico, must determine the most appropriate requestor prior to repatriation. Requests for joint repatriation of the human remains and associated funerary objects are considered a single request and not competing requests. The Maxwell Museum of Anthropology, University of New Mexico, is responsible for sending a copy of this notice to the Indian Tribes and Native Hawaiian organizations identified in this notice and any other consulting parties.

Authority: Native American Graves Protection and Repatriation Act, 25 U.S.C. 3003, and the implementing regulations, 43 CFR 10.10.

Dated: January 5, 2026.
Melanie O'Brien,
Manager, National NAGPRA Program.

[FR Doc. 2026-00462 Filed 1-12-26; 8:45 am]

BILLING CODE 4312-52-P